DEPARTMENT OF ENERGY

Federal Energy Regulatory Commission

Combined Notice Of Filings #1

Take notice that the Commission received the following Complaints and Compliance filings in EL Dockets:

Docket Numbers: EL26-32-000.

Applicants: Santa Paula Energy Storage, LLC, et al. v. Southern California Edison Co.

Description: Complaint of Santa Paula Energy Storage, LLC, et al. v. Southern California Edison Co.

Filed Date: 12/8/25.

Accession Number: 20251208-5334.

Comment Date: 5 p.m. ET 1/7/26.

Take notice that the Commission received the following electric rate filings:

Docket Numbers: ER14-199-006.

Applicants: Lakewood Cogeneration, L.P.

Description: Compliance filing: Settlement Compliance Filing to be effective 11/29/2024.

Filed Date: 12/8/25.

Accession Number: 20251208-5321.

Comment Date: 5 p.m. ET 12/29/25.

Docket Numbers: ER14-1480-005.

Applicants: KMC Thermo, LLC.

Description: Compliance filing: Informational Filing Pursuant to Schedule 2 of the PJM OATT to be effective N/A.

Filed Date: 12/8/25.

Accession Number: 20251208-5341.

Comment Date: 5 p.m. ET 12/29/25.

Docket Numbers: ER17-998-000.

Applicants: DATC Path 15, LLC.

Description: Refund Report: Refund Report Compliance Filing to be effective N/A.

Filed Date: 12/8/25.

Accession Number: 20251208-5306.

Comment Date: 5 p.m. ET 12/29/25.

Docket Numbers: ER20-1863-008.

Applicants: Ingenco Wholesale Power, L.L.C.

Description: Refund Report: Refund Report to be effective N/A.

Filed Date: 12/9/25.

Accession Number: 20251209-5163.

Comment Date: 5 p.m. ET 12/30/25.

Docket Numbers: ER20-2452-013.

Applicants: Hamilton Liberty LLC.

Description: Compliance filing: Settlement Compliance Filing to be effective 12/3/2024.

Filed Date: 12/8/25.

Accession Number: 20251208-5328.

Comment Date: 5 p.m. ET 12/29/25.

Docket Numbers: ER20-2453-014.

Applicants: Hamilton Patriot LLC.

Description: Compliance filing: Settlement Compliance Filing to be effective 12/3/2024.

Filed Date: 12/8/25.

Accession Number: 20251208-5347.

Comment Date: 5 p.m. ET 12/29/25.

Docket Numbers: ER23-2760-001; ER23-2760-002.

Applicants: Omnis Pleasants, LLC.

Description: Notice of Change in Status and Supplement to Prior Filing of Omnis Pleasants, LLC.

Filed Date: 12/8/25.

Accession Number: 20251208-5368.

Comment Date: 5 p.m. ET 12/29/25.

Docket Numbers: ER26-336-001.

Applicants: San Diego Gas & Electric.

Description: Tariff Amendment: 2026 TRBAA Update (Amended) to be effective 1/1/2026.

Filed Date: 12/9/25.

Accession Number: 20251209-5144.

Comment Date: 5 p.m. ET 12/30/25.

Docket Numbers: ER26-458-001.

Applicants: Pediment BESS I LLC.

Description: Tariff Amendment: Supplemental Response to be effective 1/6/2026.

Filed Date: 12/8/25.

Accession Number: 20251208-5323.

Comment Date: 5 p.m. ET 12/18/25.

Docket Numbers: ER26-658-000.

Applicants: Pacific Gas and Electric Company.

Description: Informational Filing of 2026 Formula Rate Annual Update of Pacific Gas and Electric Company.

Filed Date: 12/1/25.

Accession Number: 20251201-5801.

Comment Date: 5 p.m. ET 12/22/25.

Docket Numbers: ER26-667-000.

Applicants: Midcontinent Independent System Operator, Inc.

Description: § 205(d) Rate Filing: 2025-12-05_SA 1390 MMPA-NSP 1st Rev GIA (G173 E0023) to be effective 11/25/2025.

Filed Date: 12/5/25.

Accession Number: 20251205-5078.

Comment Date: 5 p.m. ET 12/26/25.

Docket Numbers: ER26-699-000.

Applicants: Tri-State Generation and Transmission Association, Inc.

Description: § 205(d) Rate Filing: Initial Filing of Service Agreement FERC No. 931 to be effective 12/31/9998.

Filed Date: 12/8/25.

Accession Number: 20251208-5318.

Comment Date: 5 p.m. ET 12/29/25.

Docket Numbers: ER26-700-000.

Applicants: Midcontinent Independent System Operator, Inc.

Description: § 205(d) Rate Filing: 2025-12-09_SA 4608 Entergy Mississippi-Entergy Mississippi GIA (J4146) to be effective 12/1/2025.

Filed Date: 12/9/25.

Accession Number: 20251209-5049.

Comment Date: 5 p.m. ET 12/30/25.

Docket Numbers: ER26-701-000.

Applicants: American Transmission Systems, Incorporated.

Description: § 205(d) Rate Filing: ATSI submits an Amended IA—SA No. 3992 to be effective 2/9/2026.

Filed Date: 12/9/25.

Accession Number: 20251209-5064.

Comment Date: 5 p.m. ET 12/30/25.

Docket Numbers: ER26-702-000.

Applicants: Mid-Atlantic Interstate Transmission, LLC.

Description: § 205(d) Rate Filing: MAIT submits Amended IA, SA No. 4578 to be effective 2/9/2026.

Filed Date: 12/9/25.

Accession Number: 20251209-5066.

Comment Date: 5 p.m. ET 12/30/25.

Docket Numbers: ER26-703-000.

Applicants: Massachusetts Electric Company.

Description: Massachusetts Electric Company (MECO) submits Notice of Cancellation of the Service Agreement between MECO and The Narragansett Electric Company under MECO's Borderline Sales Tariff, FERC Electric Tariff, Volume No. 1.

Filed Date: 12/5/25.

Accession Number: 20251205-5357.

Comment Date: 5 p.m. ET 12/26/25.

Docket Numbers: ER26-704-000.

Applicants: California Independent System Operator Corporation.

Description: Compliance filing: 2025-12-05 Tariff Amendment to Comply with Order No. 1920 to be effective 2/1/2027.

Filed Date: 12/9/25.

Accession Number: 20251209-5106.

Comment Date: 5 p.m. ET 12/30/25.

Docket Numbers: ER26-705-000.

Applicants: Duke Energy Florida, LLC, Duke Energy Carolinas, LLC.

Description: § 205(d) Rate Filing: Duke Energy Carolinas, LLC submits tariff filing per 35.13(a)(2)(iii: DEF—Gen Replacement and Provisional Interconnection Service Revisions to Att J to be effective 2/8/2026.

Filed Date: 12/9/25.

Accession Number: 20251209-5116.

Comment Date: 5 p.m. ET 12/30/25.

Docket Numbers: ER26-706-000.

Applicants: Duke Energy Florida, LLC.

Description: § 205(d) Rate Filing: DEF-Excel Generation Replacement Coordinator Agreement to be effective 2/8/2026.

Filed Date: 12/9/25.

Accession Number: 20251209-5128.

Comment Date: 5 p.m. ET 12/30/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 9, 2025.
Carlos D. Clay,
Deputy Secretary.

[FR Doc. 2025-22646 Filed 12-11-25; 8:45 am]

BILLING CODE 6717-01-P